DEPARTMENT OF COMMERCE

National Ocean and Atmospheric Administration

Proposed Information Collection; Comment Request; West Coast Region Trawl Logbook Requirement

AGENCY: National Ocean and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 6, 2019.

ADDRESSES: Direct all written comments to Jennifer Jessup, Departmental Paperwork Clearance Officer, Department of Commerce, Room 6616, 14th and Constitution Avenue NW, Washington, DC 20230 (or via the internet at PRAcomments@doc.gov).

FOR FURTHER INFORMATION CONTACT: Requests for additional information or copies of the information collection instrument and instructions should be directed to Keeley Kent, National Marine Fisheries Service, 7600 Sand Point Way NE, Building 1, Seattle, WA, 98115-6349, (206) 526-4655 or keeley.kent@noaa.gov.

SUPPLEMENTARY INFORMATION:

I. Abstract

This request is for a new information collection.

The success of fisheries management programs depends significantly on the availability of fishery data. Currently, the states of Washington, Oregon, and California administer a trawl logbook on behalf of the Pacific Fishery Management Council (Council) and NOAA's National Marine Fisheries Service (NMFS). The log used is a standard format developed by the Council to collect information necessary to effectively manage the fishery on a coast-wide basis. The trawl logbook collects haul-level effort data including tow time, tow location, depth of catch, net type, target strategy, and estimated pounds of fish retained per tow. Each trawl log represents a single fishing trip. The state of California repealed their requirement, effective April 1, 2019, therefore, NMFS must create a federal requirement in order to not lose logbook coverage from trawl vessels in California.

This new federal requirement will duplicate the logbook structure and process that the state of California was using in order to minimize disruption or confusion for fishery participants. Under this rule, NMFS will contract with the Pacific States Marine Fisheries Commission (PSMFC) to distribute and collect the same logbook these fishermen have been using previously. These data are used regularly by NMFS, the Pacific Fishery Management Council, the West Coast Groundfish Observer Program, NMFS Office of Law Enforcement, and the Coast Guard for fisheries management and enforcement.

II. Method of Collection

Vessels using trawl gear in a state without a state requirement for the completion and submission of the logbook will be required to complete and submit a logbook on their haul-level effort to the PSMFC. This logbook will be provided to these vessels by the PSMFC along with pre-addressed stamped envelopes to return the completed logbooks every month.

III. Data

OMB Control Number: 0648-XXXX.

Form Number(s): Unassigned.

Type of Review: New collection.

Affected Public: Business or other for-profit organizations.

Estimated Number of Respondents: 27.

Estimated Time Per Response: 8 hours.

Estimated Total Annual Burden Hours: 64 hours.

Estimated Total Annual Cost to Public: $81.00 for materials.

IV. Request for Comments

Comments are invited on: (a) whether the proposed collection of information is necessary for the proper performance of the functions of the agency, including whether the information shall have practical utility; (b) the accuracy of the agency's estimate of the burden (including hours and cost and whether the information shall have practical utility) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Clearance Officer, Office of the Chief Financial Officer, Commerce Department.

[FR Doc. 2019-03895 Filed 3-4-19; 8:45 am]

BILLING CODE 3510-22-P